DEPARTMENT OF TRANSPORTATION

Federal Transit Administration

Environmental Impact Statement on a Light Rail Transit Extension From Sierra Madre Villa Station in Pasadena to Montclair in Metropolitan Los Angeles, CA

AGENCY: Federal Transit Administration, DOT.

ACTION: Notice of intent to prepare an environmental impact statement.

SUMMARY: The Federal Transit Administration (FTA) and the Los Angeles to Pasadena Metro Blue Line Construction Authority (referred to hereafter as the Gold Line Construction Authority) intend to prepare an Environmental Impact Statement (EIS) in accordance with the National Environmental Policy Act (NEPA) for transit improvements between Pasadena and Montclair in Los Angeles and San Bernardino counties in California. The EIS will be prepared as a joint EIS and Environmental Impact Report (EIR) to satisfy the requirements of both NEPA and the California Environmental Quality Act (CEQA).

The purpose of this notice is to notify interested individuals, organizations, and business entities, affected Native American Tribes, and Federal, State, and local governmental agencies of the intent to prepare an EIS/EIR and to invite participation in the study. At present, four alternatives are proposed for evaluation in the EIS/EIR. These alternatives were developed during a Planning Alternatives Analysis undertaken by the Gold Line Construction Authority and the San Gabriel Valley Council of Governments (SGVCOG) in 2001-2002. In addition, reasonable alternatives identified through the scoping process will be evaluated in the EIS/EIR.

Scoping will be accomplished through correspondence and discussions with interested persons, organizations, and Federal, State, and local agencies, and through public and agency meetings. FTA intends to invite the SGVCOG, the San Bernardino Associated Governments (SANBAG), the Los Angeles County Metropolitan Transportation Authority (LACMTA), and the Federal Railroad Administration to be cooperating agencies in preparing the NEPA documents.

DATES: Comment Due Date: Written comments on the scope of the EIS/EIR, including the alternatives and impacts to be considered, must be received no later that August 1, 2003. Written comments should be sent to the Gold Line Construction Authority at the address given below in ADDRESSES.

Scoping Meeting Dates: Four public open-house scoping meetings will be held from 5 p.m. to 8 p.m. on July 15, 16, 17, and 21, 2003 at locations given below in ADDRESSES. An interagency scoping meeting will also be held on July 22, 2003, from 2 p.m. to 5 p.m. at the Gold Line Construction Authority offices, 625 Fair Oaks Avenue, Suite 200, South Pasadena, CA 91030

ADDRESSES: Written comments should be sent to Susan Hodor, Gold Line Construction Authority, 625 Fair Oaks Avenue, Suite 200, South Pasadena, California 91030; phone: (626) 403-5500; fax: (626) 799-8599. Information on the project may be obtained from the Gold Line Construction Authority by faxing a request to Susan Hodor at (626) 799-8599 or by e-mail at shodor@metrogoldline.org or by visiting the project Web site at http://www.metrogoldline.org.

The public open-house scoping meetings will be held at the following four locations. Identical information about the proposed project will be provided at each of the meetings and interested parties may participate at any of the meetings. There will be no formal presentation at the open-house scooping meetings; members of the public are invited to attend at any time between 5 p.m. and 8 p.m. on these dates:

July 15, 2003: City Hall, City of San Dimas, 245 E. Bonita Ave., San Dimas, CA 91773.

July 16, 2003: City Hall, City of Claremont, 207 Harvard Ave., Claremont, CA 91711.

July 17, 2003: Public Library—Community Room, City of South Pasadena, 1115 El Centro Street, South Pasadena, CA 91030.

July 21, 2003: City Hall, City of Arcadia, 240 W. Huntington Drive, Arcadia, CA 91007.

All meeting locations are accessible to people with disabilities. Any individual with a disability who requires special assistance, such as a sign language interpreter or a translator, should contact Susan Hodor at (626) 403-5500 at least 48 hours in advance of the meeting so that arrangements can be made.

FOR FURTHER INFORMATION CONTACT: Mr. Ervin Poka, Team Leader, or Mr. Ray Tellis, Program Specialist, FTA/FHWA Metropolitan Office, 888 S. Figueroa St. (Suite 1850), Los Angeles, California 90017; phone: (213) 202-3950; fax: (213) 202-3961.

SUPPLEMENTARY INFORMATION:

I. Description of Study Area and Scope

The purpose of the proposed action is to improve east-west mobility across the 24-mile long corridor in the San Gabriel Valley, to relieve congestion on existing transportation facilities, to increase connections to work and educational destinations within the San Gabriel Valley and the Los Angeles region, to support economic revitalization in each city along the corridor, and to contribute to the preservation and enhancement of the natural environment. The corridor includes the cities: Pasadena, Arcadia, Monrovia, Duarte, Irwindale, Azusa, Glendora, San Dimas, La Verne, Pomona, Claremont, and Montclair; and the counties: Los Angeles and San Bernardino.

II. Alternatives

The alternatives proposed for evaluation in the EIS/EIR were developed during a Planning Alternatives Analysis that began in September 2001 and continued through June 2002. The Planning Alternatives Analysis can be reviewed on the project Web site: http://www.metrogoldline.org. The Planning Alternatives Analysis looked at transportation conditions and possible solutions for improving mobility across the 24-mile long corridor from Pasadena to Claremont. Seven alternatives were examined in this study and screened down to a Locally Preferred Alternative (LPA) selected by the Gold Line Construction Authority and the San Gabriel Valley Council of Governments (SGVCOG). The LPA is a continuation of the light rail transit (LRT) technology from the existing Sierra Madre Villa LRT station in Pasadena to the Claremont Transit Center. The Sierra Madre Villa LRT station is the eastern terminus of the “Phase I area”, in which LRT service was implemented from Los Angeles, through South Pasadena, to Pasadena. A further extension to the City of Montclair was subsequently added to the scope of the EIS/EIR.

The EIS/EIR will evaluate a No-Action alternative, a Transportation System Management/Transportation Demand Management (TSM/TDM) alternative, the LRT LPA to Montclair, and a shorter LRT alternative from the existing Sierra Madre Villa station to the City of Irwindale. Alternative locations for a LRT maintenance and storage facility will also be evaluated. The LRT alternatives would use the former BNSF railroad right-of-way now owned by the Gold Line Construction Authority and the San Bernardino Associated Governments (SANBAG). There are still a few freight movements that occur on the railroad line. The EIS/EIR will examine operating scenarios to determine whether time-separated joint-use can occur or whether freight operations must be supplanted. The No-Action Alternative is the continuation of existing bus service policies in the study area. Under the No-Action Alternative, increases in service would track with increases in demand due to population or employment growth in the area, in accordance with current transit service policies. The TSM/TDM Alternative consists of low-cost mobility improvements that attempt to serve the project purpose and need without building a transit guideway. The TSM/TDM alternative will be developed by the Gold Line Construction Authority in consultation with FTA to serve as the New Starts baseline for comparing the LPA to other projects nationwide competing for New Starts funding. Any additional alternatives that emerge during the scoping of the EIS/EIR, especially alternatives that reduce costs or impacts while providing comparable transportation benefit, will also be considered.

III. Probable Effects

The Planning Alternatives Analysis included a screening process to identify potential environmental impacts. This screening indicated the areas of probable effects of the project would be air quality, cultural resources, land use, noise and vibration, and traffic. Most impacts appear likely to occur in the vicinity of proposed stations and at the maintenance yard sites. Noise impacts, however, are possible along the entire corridor because of numerous at-grade crossings that would require the sounding of warning horns and the actuation of grade-crossing warning devices as LRT vehicles move through the intersection. The full range of environmental topics will be evaluated in the EIS/EIR. The EIS/EIR will also evaluate whether the proposed LRT extension would generate environmental impacts in the Phase I area (Los Angeles, South Pasadena, and Pasadena).

IV. FTA Procedures

In accordance with FTA policy, all federal laws, regulations and executive orders affecting project development, including but not limited to the regulations of the Council on Environmental Quality and FTA implementing NEPA (40 CFR parts 1500-1508 and 23 CFR part 771), the conformity requirements of the Clean Air Act, section 404 of the Clean Water Act, Executive Orders 11988, 11990 and 12898 regarding floodplains, wetlands, and environmental justice, respectively, the National Historic Preservation Act, the Endangered Species Act, and section 4(f) of the Department of Transportation Act, will be addressed to the maximum extent practicable during the NEPA process.

The Draft EIS/EIR for the Gold Line Light Rail Extension from the Sierra Madre Villa Station in Pasadena to Montclair will be based on conceptual engineering of the alternatives, including stations, maintenance and storage facilities, and alignment options. Station designs, maintenance and storage facility layouts, and alignment options as well as operational elements, will be refined to minimize and mitigate any adverse impacts.

After its publication, the Draft EIS/EIR will be available for public review and comment, and one or more public hearings will be held. The actions taken in response to the comments on the Draft EIS/EIR will be presented in the Final EIS/EIR, which will be based on preliminary engineering of the LPA and other surviving alternatives.

Issued on: July 2, 2003.
Leslie T. Rogers,
Regional Administrator.

[FR Doc. 03-17366 Filed 7-8-03; 8:45 am]

BILLING CODE 4910-57-P